DEPARTMENT OF HOMELAND SECURITY

Coast Guard

[Docket No. USCG-2021-0189]

Cooperative Research and Development Agreement—Tactical Mobile Technology Architecture; Correction

AGENCY: Coast Guard, DHS.

ACTION: Notice; correction.

SUMMARY: The Coast Guard published a document in the Federal Register on April 27, 2021, concerning a notice of intent; request for comments on a Cooperative Research and Development Agreement—Tactical Mobile Technology Architecture. The document contained an incorrect company name for who we are currently considering partnering with on the research and development.

DATES: This correction is effective April 30, 2021.

FOR FURTHER INFORMATION CONTACT: For information about this document call or email, Mr. David Cote, Project Official, IT and Networks Branch, U.S. Coast Guard Research and Development Center, telephone 860-271-2693, email david.e.cote@uscg.mil.

SUPPLEMENTARY INFORMATION:

Correction

In the Federal Register of April 27, 2021, in FR Doc. 2021-08666, on page 22217, in the third column, the company name “IMPRESS Technologies Inc.” is corrected to read “IMPRES Technology Solutions Inc.”. The company name was misspelled in the original publication of the notice of intent.

Dated: April 27, 2021.
M.T. Cunningham,
Chief, Office of Regulations and Administrative Law, U.S. Coast Guard.

[FR Doc. 2021-09098 Filed 4-29-21; 8:45 am]

BILLING CODE 9110-04-P